ENVIRONMENTAL PROTECTION AGENCY

[EPA-HQ-OPPT-2012-0916; FRL-9911-29-OEI]

Information Collection Request Submitted to OMB for Review and Approval; Comment Request; Asbestos-Containing Materials in Schools Rule and Revised Asbestos Model Accreditation Plan Rule (Renewal)

AGENCY: Environmental Protection Agency (EPA).

ACTION: Notice.

SUMMARY: EPA has submitted the following information collection request (ICR) to the Office of Management and Budget (OMB) for review and approval in accordance with the Paperwork Reduction Act (44 U.S.C. 3501 et seq.): Asbestos-Containing Materials in Schools Rule and Revised Asbestos Model Accreditation Plan Rule (EPA ICR No. 1365.10, OMB Control No. 2070-0091). EPA did not receive any comments in response to the previously provided public review opportunity issued in the Federal Register on August 8, 2013 (78 FR 48431). With this submission, EPA is providing an additional 30 days for public comments. An Agency may not conduct or sponsor and a person is not required to respond to a collection of information unless it displays a currently valid OMB control number.

DATES: Submit your comments on or before June 27, 2014.

ADDRESSES: Submit your comments, referencing Docket ID Number EPA-HQ-OPPT-2012-0916, to (1) EPA online using http://www.regulations.gov (our preferred method), by email to oppt.ncic@epa.gov or by mail to: EPA Docket Center, Environmental Protection Agency, Mail Code 28221T, 1200 Pennsylvania Ave. NW., Washington, DC 20460, and (2) OMB via email to oira_submission@omb.eop.gov. Address comments to the OMB Desk Officer for EPA.

EPA's policy is that all comments received will be included in the public docket without change including any personal information provided, unless the comment includes profanity, threats, information claimed to be Confidential Business Information (CBI) or other information whose disclosure is restricted by statute.

FOR FURTHER INFORMATION CONTACT: Pamela Myrick, Deputy Director, Environmental Assistance Division (7408M), Office of Pollution Prevention and Toxics, Environmental Protection Agency, 1200 Pennsylvania Ave. NW., Washington, DC 20460; telephone number: 202-554-1404; fax number: 202-564-8251; email address: TSCA-Hotline@epa.gov.

SUPPLEMENTARY INFORMATION:

Docket: The ICR, which explains in detail the information collection activities and the related burden and cost estimates, is summarized in this document and is available in the docket for this ICR Renewal. The docket can be viewed online at http://www.regulations.gov or in person at the EPA Docket Center, EPA West, Room 3334, 1301 Constitution Ave. NW., Washington, DC. The telephone number for the Docket Center is 202-566-1744. For additional information about EPA's docket, visit http://www.epa.gov/dockets.

ICR Title: Asbestos-Containing Materials in Schools Rule and Revised Asbestos Model Accreditation Plan Rule.

ICR numbers: EPA ICR No. 1365.10, OMB Control No. 2070-0091.

ICR status: The current OMB approval for this ICR is scheduled to expire on May 31, 2014. Under OMB regulations, the Agency may continue to conduct or sponsor the collection of information while this submission is pending at OMB.

Abstract: The Asbestos Hazard Emergency Response Act (AHERA) requires local education agencies (LEAs) to conduct inspections, develop management plans, and design or conduct response actions with respect to the presence of asbestos-containing materials in school buildings. AHERA also requires states to develop model accreditation plans for persons who perform asbestos inspections, develop management control plans, and design or conduct response actions. This information collection addresses the burden associated with recordkeeping requirements imposed on LEAs by the asbestos in schools rule, and reporting and recordkeeping requirements imposed on states and training providers related to the model accreditation plan (MAP) rule.

EPA will disclose information that is covered by a claim of confidentiality only to the extent permitted by, and in accordance with, the procedures in TSCA and 40 CFR part 2.

Form numbers: None.

Respondents/affected entities: Local education agencies (LEAs, e.g., elementary or secondary public school districts or a private school or school system); asbestos training providers to schools and educational systems; state education departments or commissions; or state public health departments or commissions.

Respondent's obligation to respond: Mandatory (see 40 CFR parts 763, Subpart E).

Estimated number of respondents: 133,507 (total).

Frequency of response: On occasion.

Total estimated burden: 2,487,439 hours per year. Burden is defined at 5 CFR 1320.03(b).

Total estimated cost: $91,829,253 per year, includes $0 annualized capital or operation and maintenance costs.

Changes in the estimates: There is a decrease of 105,449 hours in the total estimated respondent burden compared with that identified in the ICR currently approved by OMB. This decrease reflects EPA's reduced estimate of the number of schools containing friable asbestos-containing materials.

Dated: May 16, 2014.
Erin Collard,
Acting Director, Collection Strategies Division.

[FR Doc. 2014-12326 Filed 5-27-14; 8:45 am]

BILLING CODE 6560-50-P